Proclamation 8597 of November 1, 2010

National Adoption Month, 2010

By the President of the United States of America

A Proclamation

Giving a child a strong foundation—a home, a family to love, and a safe place to grow—is one of life’s greatest and most generous gifts. Through adoption, both domestic and international, Americans from across our country have provided secure environments for children who need them, and these families have benefited from the joy an adopted child can bring. Thanks to their nurturing and care, more young people have been able to realize their potential and lead full, happy lives. This year, we celebrate National Adoption Month to recognize adoption as a positive and powerful force in countless American lives, and to encourage the adoption of children from foster care.

Currently, thousands of children await adoption or are in foster care, looking forward to permanent homes. These children can thrive, reach their full potential, and spread their wings when given the loving and firm foundation of family. Adoptive families come in many forms, and choose to adopt for different reasons: a desire to grow their family when conceiving a child is not possible, an expression of compassion for a child who would otherwise not have a permanent family, or simply because adoption has personally touched their lives. For many Americans, adoption has brought boundless purpose and joy to their lives. We must do all we can to break down barriers to ensure that all qualified caregivers have the ability to serve as adoptive families.

This year, on November 20, families, adoption advocates, policymakers, judges, and volunteers will celebrate the 11th annual National Adoption Day in communities large and small. National Adoption Day is a day of hope and happiness when courthouses finalize the adoptions of children out of foster care. Last year, Health and Human Services Secretary Kathleen Sebelius was honored to preside over a ceremony celebrating two foster care adoptions as part of my Administration’s support for this important day.

Adoptive families are shining examples of the care and concern that define our great Nation. To support adoption in our communities, my Administration is working with States to support families eager to provide for children in need of a place to call home. The landmark Affordable Care Act increases and improves the Adoption Tax Credit, enabling adoption to be more affordable and accessible. As part of the Adoption Incentives program, States can also receive awards for increasing adoptions and the number of children adopted from foster care. AdoptUsKids, a project of the Department of Health and Human Services, offers technical support to States, territories, and tribes to recruit and retain foster and adoptive families; provides information and assistance to families considering adoption; and supports parents already on that journey. I encourage all Americans to visit AdoptUsKids.org or ChildWelfare.gov/Adoption for information and resources on adoption, including adoption from foster care.

As we observe National Adoption Month, we honor the loving embrace of adoptive families and the affirming role of adoption in the lives of American families and our country. Let us all commit to supporting our children in any way that we are able—whether opening our hearts and homes through adoption, becoming foster parents to provide quality temporary care to children in crisis, supporting foster and adoptive families in our communities and places of worship, mentoring young people in need of guidance, or donating time to helping children in need. Working together, we can shape a future of hope and promise for all of our Nation’s children.

NOW, THEREFORE, I, BARACK OBAMA, President of the United States of America, by virtue of the authority vested in me by the Constitution and the laws of the United States, do hereby proclaim November 2010 as National Adoption Month. I call upon all Americans to observe this month by answering the call to find homes for every child in America in need of a permanent and caring family, as well as to support the families who care for them.

IN WITNESS WHEREOF, I have hereunto set my hand this first day of November, in the year of our Lord two thousand ten, and of the Independence of the United States of America the two hundred and thirty-fifth.

[FR Doc. 2010-28117

Filed 11-3-10; 11:15 am]

Billing code 3195-W1-P